DEPARTMENT OF TRANSPORTATION

Federal Aviation Administration

Notice of Availability of an Environmental Assessment (EA) and Finding of No Significant Impact/Record of Decision (FONSI/ROD) Executed by the Federal Aviation Administration (FAA) for the Evaluation of Environmental Impacts Associated With the Construction of a New 4,100 Foot General Aviation Runway and Associated Support Facilities (i.e., Taxiways, Hangars, Access Roads, etc.) for W.K. Kellogg Airport, Located in Battle Creek, MI

AGENCY: Federal Aviation Administration, Department of Transportation.

ACTION: Notice of availability of an EA and FONSI/ROD executed by the FAA for the evaluation of environmental impacts associated with a proposed new 4,100 foot General Aviation runway for W.K. Kellogg Airport located in Battle Creek, Michigan.

SUMMARY: The FAA is making available an EA and FONSI/ROD for the evaluation of environmental impacts associated with proposed construction of a new 4,100 foot General Aviation runway executed by the FAA, for the W.K. Kellogg Airport located in Battle Creek, Michigan.

Point of Contact: Mr. Brad Davidson, Environmental Protection Specialist, FAA Great Lakes Region, Detroit Airports District Office, 11677 South Wayne Road, Suite 107, Romulus, MI 48174 (734) 229-2900.

SUPPLEMENTARY INFORMATION: The FAA is making available an EA and FONSI/ROD for the evaluation of environmental impacts associated with a proposed new 4,100 foot General Aviation runway, executed by the FAA, for the W.K. Kellogg Airport located in Battle Creek, Michigan. The purpose of the EA and FONSI/ROD was to evaluate potential environmental impacts arising from the proposed airport improvement project involving the construction of a new 4,100 foot General Aviation runway.

These documents will be available during normal business hours at the following location: FAA Detroit Airports District Office, 11677 South Wayne Road, Suite 107, Romulus, MI 48174.

Due to current security requirements, arrangements must be made with the point of contact prior to visiting this office.

Issued in Detroit, Michigan, June 15, 2006.
Irene R. Porter,
Manager, Detroit Airport District Office, FAA, Great Lakes Region.

[FR Doc. 06-5731 Filed 6-27-06; 8:45 am]

BILLING CODE 4910-13-M